DEPARTMENT OF ENERGY

Federal Energy Regulatory Commission

Combined Notice of Filings #1

Take notice that the Commission received the following exempt wholesale generator filings:

Docket Numbers: EG15-90-000.

Applicants: Adelanto Solar, LLC.

Description: Adelanto Solar, LLC Amendment to the Notice of Self-Certification of Exempt Wholesale Generator Status.

Filed Date: 6/9/15.

Accession Number: 20150609-5178.

Comments Due: 5 p.m. ET 6/30/15.

Docket Numbers: EG15-91-000.

Applicants: Adelanto Solar II, LLC.

Description: Adelanto Solar II, LLC Amendment to the Notice of Self-Certification of Exempt Wholesale Generator Status.

Filed Date: 6/9/15.

Accession Number: 20150609-5179.

Comments Due: 5 p.m. ET 6/30/15.

Take notice that the Commission received the following electric rate filings:

Docket Numbers: ER10-3223-005; ER10-2351-004; ER10-2875-011; ER10-2368-004; ER10-2352-004; ER10-2264-003; ER10-1581-013; ER10-2353-006; ER10-2876-011; ER10-2878-011; ER10-2354-005; ER10-2355-006; ER10-2879-011; ER10-2384-005; ER10-2383-005; ER10-2880-011; ER11-2107-005; ER11-2108-005; ER10-2888-014; ER13-1745-006; ER13-1803-007; ER13-1788-006; ER13-1789-006; ER13-1790-007; ER10-2896-011; ER10-2913-011; ER13-1791-006; ER13-1746-008; ER13-1799-006; ER13-1801-006; ER13-1802-006; ER10-2916-011; ER10-2915-011; ER12-1525-011; ER12-2019-010; ER10-2266-002; ER12-2398-010; ER11-3459-010; ER10-2931-011; ER13-1965-008; ER10-2969-011; ER11-4351-006; ER11-4308-014; ER11-2805-013; ER10-1580-013; ER10-2382-005; ER11-2856-016; ER10-2356-004; ER10-2357-005; ER13-2107-006; ER13-2020-006; ER13-2050-006; ER11-2857-016; ER10-2359-004; ER10-2360-004; ER10-2369-004; ER10-2947-011; ER10-2381-004; ER10-2575-004; ER10-2361-005.

Applicants: Indian River Power LLC, Jeffers Wind 20, LLC, Keystone Power LLC, Laredo Ridge Wind, LLC, Larswind, LLC, Long Beach Generation LLC, Long Beach Peakers LLC, Lookout WindPower LLC, Louisiana Generating LLC, Middletown Power, LLC, Midway-Sunset Cogeneration Company, Midwest Generation LLC, Montville Power LLC, Mountain Wind Power LLC, Mountain Wind Power II LLC, NEO Freehold-Gen LLC, North Community Turbines LLC, North Wind Turbines LLC, Norwalk Power LLC, NRG Bowline LLC, NRG California South LP, NRG Canal LLC, NRG Chalk Point LLC, NRG Delta LLC, NRG Energy Center Dover LLC, NRG Energy Center Paxton LLC, NRG Florida LP, NRG Marsh Landing LLC, NRG Potomac River LLC, NRG Power Midwest LP, NRG REMA LLC, NRG Rockford LLC, NRG Rockford II LLC, NRG Solar Alpine LLC, NRG Solar Avra Valley LLC, NRG Solar Blythe LLC, NRG Solar Borrego I LLC, NRG Solar Roadrunner LLC, NRG Sterlington Power LLC, NRG Wholesale Generation LP, Oswego Harbor Power LLC, Pinnacle Wind, LLC, Reliant Energy Northeast LLC, RRI Energy Services, LLC, Saguaro Power Company, a Ltd. Partnership, San Juan Mesa Wind Project, LLC, Sand Drag LLC, Sierra Wind, LLC, Sleeping Bear, LLC, Solar Partners I, LLC, Solar Partners II, LLC, Solar Partners VIII, LLC, Sun City Project LLC, Sunrise Power Company, LLC, TAIR Windfarm, LLC, Taloga Wind, LLC, Vienna Power LLC, Walnut Creek Energy, LLC, Watson Cogeneration Company, Wildorado Wind, LLC.

Description: Notice of Non-Material Change in Status of NRG MBR Sellers [Part 2].

Filed Date: 6/8/15.

Accession Number: 20150608-5266.

Comments Due: 5 p.m. ET 6/29/15.

Docket Numbers: ER15-1494-001.

Applicants: Convergent Energy and Power Inc.

Description: Tariff Amendment per 35.17(b): Petition for Acceptance of Initial Tariff, Waivers and Blanket Authority to be effective 6/15/2015.

Filed Date: 6/9/15.

Accession Number: 20150609-5135.

Comments Due: 5 p.m. ET 6/30/15.

Docket Numbers: ER15-1892-000.

Applicants: PacifiCorp.

Description: § 205(d) rate filing per 35.13(a)(2)(iii): PacifiCorp Energy Construction Agmt—Paisley to be effective 6/1/2015.

Filed Date: 6/9/15.

Accession Number: 20150609-5103.

Comments Due: 5 p.m. ET 6/30/15.

Docket Numbers: ER15-1893-000.

Applicants: Censtar Energy Corp.

Description: Tariff Withdrawal per 35.15: CenStar Energy Corp. Cancellation of MBR Tariff to be effective 6/10/2015.

Filed Date: 6/9/15.

Accession Number: 20150609-5110.

Comments Due: 5 p.m. ET 6/30/15.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 10, 2015.
Nathaniel J. Davis, Sr.,
Deputy Secretary.

[FR Doc. 2015-14892 Filed 6-16-15; 8:45 am]

BILLING CODE 6717-01-P